DEPARTMENT OF HOMELAND SECURITY

Office of the Secretary

Designation of Manager, National Communications System

AGENCY: Office of the Secretary, Department of Homeland Security.

ACTION: Notice.

SUMMARY: In accordance with section 1(e)(1) of Executive Order 12472 of April 3, 1984, as amended by section 46 of Executive Order 13286 of February 28, 2003, the Secretary of Homeland Security announces the designation of the Assistant Secretary of Homeland Security for Infrastructure Protection, Information Analysis and Infrastructure Protection Directorate as the Manager, National Communications System (NCS).

DATES: The designation of the Manager, National Communications System is effective November 3, 2003.

FOR FURTHER INFORMATION CONTACT: If you have any questions about this notice, call Ms. Marilyn Witcher, Chief, Industry, Government, and External Affairs, National Communications System, telephone 703-607-6214.

SUPPLEMENTARY INFORMATION: The NCS consists of the telecommunications assets of the entities represented on the NCS Committee of Principals and an administrative structure consisting of the Executive Agent, the NCS Committee of Principals, and the Manager. The mission of the NCS is to assist the President, the National Security Council, the Homeland Security Council, the Director of the Office of Science and Technology Policy, and the Director of the Office of Management and Budget in:

(1) The exercise of designated telecommunications functions and responsibilities; and

(2) The coordination of the planning for and provision of national security and emergency preparedness communications for the Federal government under all circumstances, including crisis or emergency, attack, recovery and reconstitution.

As stated in Section 1(g) of Executive Order 12472 of April 3, 1984, the Manager, NCS, shall develop for consideration by the NCS Committee of Principals and the Executive Agent:

(1) A recommended evolutionary telecommunications architecture designed to meet current and future Federal government national security and emergency preparedness telecommunications requirements;

(2) Plans and procedures for the management, allocation and use, including the establishment of priorities or preferences, of Federally owned or leased telecommunications assets under all conditions of crisis or emergency;

(3) Plans, procedures and standards for minimizing or removing technical impediments to the interoperability of government-owned and/or commercially-provided telecommunications systems;

(4) Test and exercise programs and procedures for the evaluation of the capability of the Nation's telecommunications resources to meet national security or emergency preparedness telecommunications requirements; and

(5) Alternative mechanisms for funding, through the budget review process, national security or emergency preparedness telecommunications initiatives which benefit multiple Federal departments, agencies, or entities. Those mechanisms recommended by the NCS Committee of Principals and the Executive Agent shall be submitted to the Director of the Office of Management and Budget.

The Manager shall also:

(1) Implement and administer any approved plans or programs as assigned, including any system of priorities and preferences for the provision of communications service, in consultation with the NCS Committee of Principals and the Federal Communications Commission, to the extent practicable or otherwise required by law or regulation;

(2) Chair the NCS Committee of Principals and provide staff support and technical assistance thereto;

(3) Serve as a focal point for joint industry-government planning, including the dissemination of technical information, concerning the national security or emergency preparedness telecommunications requirements of the Federal government;

(4) Conduct technical studies or analyses, and examine research and development programs, for the purpose of identifying, for consideration by the NCS Committee of Principals and the Executive Agent, improved approaches which may assist Federal entities in fulfilling national security or emergency preparedness telecommunications objectives;

(5) Pursuant to the Federal Standardization Program of the General Services Administration, and in consultation with other appropriate entities of the Federal government including the NCS Committee of Principals, manage the Federal Telecommunications Standards Program, ensuring wherever feasible that existing or evolving industry, national, and international standards are used as the basis for Federal telecommunications standards; and

(6) Provide such reports and perform such other duties as are from time to time assigned by the President or his authorized designee, the Executive Agent, or the NCS Committee of Principals. Any such assignments of responsibility to, or reports made by, the Manager shall be transmitted through the Executive Agent.

In accordance with section 1(e)(1) of Executive Order 12472 of April 3, 1984, as amended by section 46 of Executive Order 13286 of February 28, 2003, and as the designated Executive Agent for the National Communications System, Department of Homeland Security, I designate the position of Assistant Secretary of Homeland Security for Infrastructure Protection in the Information Analysis and Infrastructure Protection Directorate, as the Manager of the National Communications System.

Dated: October 24, 2003.
Tom Ridge,
Secretary of Homeland Security.

[FR Doc. 03-27550 Filed 10-31-03; 8:45 am]

BILLING CODE 4410-10-P